SMALL BUSINESS ADMINISTRATION

Meeting of the Interagency Task Force on Veterans Small Business Development

AGENCY: U.S. Small Business Administration (SBA).

ACTION: Notice of open Federal Advisory Committee meeting.

SUMMARY: The SBA is issuing this notice to announce the location, date, time and agenda for the next meeting of the Interagency Task Force on Veterans Small Business Development (IATF). The meeting is open to the public. Due to renovations at SBA Headquarters, the meeting will be held at the American Legion Headquarters in Washington, DC.

DATES: Wednesday, December 4, 2019, from 1:00 p.m. to 4:00 p.m. EST.

ADDRESSES: The meeting will be held at The American Legion, 1608 K St. NW, Large Conference Room, Washington, DC 20006 and via teleconference and webinar.

FOR FURTHER INFORMATION CONTACT: The meeting is open to the public; however advance notice of attendance is requested. To RSVP and confirm attendance, the general public should email veteransbusiness@sba.gov with subject line—“RSVP for December 4, 2019 IATF Public Meeting.” Anyone wishing to make comments to the Task Force must contact SBA's Office of Veterans Business Development (OVBD) no later than November 26, 2019 via email veteransbusiness@sba.gov, or Timothy Green, Deputy Associate Administrator, OVBD at (202) 205-6773. Comments for the record will be limited to five minutes to accommodate as many participants as possible.

Special accommodation requests should also be directed to OVBD at (202) 205-6773 or veteransbusiness@sba.gov. For more information on veteran owned small business programs, please visit www.sba.gov/ovbd.

Participants can join the meeting via teleconference: Join Zoom Meeting, https://legion.zoom.us/j/550528684.

Meeting ID: 550 528 684.

+19292056099, 550528684# US (New York)

+16699006833, 550528684# US (San Jose) Dial by your location

+1 929 205 6099 US (New York)

+1 669 900 6833 US (San Jose) 877 853 5257 US Toll-free

888 475 4499 US Toll-free

To receive copies of meeting documents email your request including the meeting title and date, to veteransbusiness@sba.gov. Those attending the meeting are encouraged to arrive early to allow for security clearance into the building.

For security purposes attendees are asked to:

1. RSVP by sending an email to veteransbusiness@sba.gov by November 30, 2019.

2. Know the name of the event being attended: The meeting event is the Interagency Task Force on Veterans Small Business Development (IATF).

SUPPLEMENTARY INFORMATION: Pursuant to section 10(a)(2) of the Federal Advisory Committee Act (5 U.S.C., Appendix 2), SBA announces the meeting of the Interagency Task Force on Veterans Small Business Development (IATF). The IATF is established pursuant to Executive Order 13540 to coordinate the efforts of Federal agencies to improve capital, business development opportunities, and pre-established federal contracting goals for small business concerns owned and controlled by veterans and service-disabled veterans.

The purpose of this meeting is to discuss efforts that support service-disabled veteran-owned small businesses, updates on past and current events, and the IATF's objectives for fiscal year 2020.

Dated: November 19, 2019.
Nicole Nelson,
Committee Management Officer (Acting).

[FR Doc. 2019-25487 Filed 11-22-19; 8:45 am]

BILLING CODE 8025-01-P